INTERNATIONAL TRADE COMMISSION

[Investigation Nos. 701-TA-644 and 731-TA-1494 (Final)]

Non-Refillable Steel Cylinders from China; Revised Schedule for the Subject Investigations

AGENCY: United States International Trade Commission.

ACTION: Notice.

DATES: January 22, 2021

FOR FURTHER INFORMATION CONTACT: Kristina Lara (202-205-3386), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective October 30, 2020, the Commission published its schedule for the final phase of these investigations (85 FR 84367, December 28, 2020). The Commission is revising its schedule.

The Commission's revised dates in the schedule are as follows: The prehearing staff report will be placed in the nonpublic record on February 25, 2021. The deadline for filing prehearing briefs is March 4, 2021. Requests to appear at the hearing must be filed with the Secretary to the Commission not later than March 5, 2021. If deemed necessary, the prehearing conference will be held on March 9, 2021. The hearing will be held on March 11, 2021 at 9:30 a.m. The deadline for filing posthearing briefs is March 18, 2021.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: January 22, 2021.
Lisa Barton,
Secretary to the Commission.

[FR Doc. 2021-01800 Filed 1-27-21; 8:45 am]

BILLING CODE 7020-02-P